DEPARTMENT OF TRANSPORTATION

Federal Aviation Administration

14 CFR Part 43

[Docket No.: FAA-2004-17683]

RIN 2120-AI19

Implementing the Maintenance Provisions of Bilateral Agreements

AGENCY: Federal Aviation Administration (FAA), DOT.

ACTION: Final rule; notice of effective date.

SUMMARY: The FAA is announcing the effective date of the final rule, published July 14, 2005, that amended the regulations governing maintenance, preventive maintenance, and alterations performed on U.S. aeronautical products by certain Canadian persons. That revision removes specific regulatory references and other requirements and requires that the maintenance, preventive maintenance, and alterations be performed in accordance with a Bilateral Aviation Safety Agreement (BASA) between the United States and Canada and associated Maintenance Implementation Procedures (MIP). When the rule was published, the FAA announced the amendments would become effective concurrent with the date the MIP entered into force. The MIP was signed and entered into force on August 31, 2006; accordingly, the amendments became effective on that date.

DATES: The effective date of § 43.17 is August 31, 2006.

FOR FURTHER INFORMATION CONTACT: William D. Scott, Flight Standards, Aircraft Maintenance Division, AFS-300, Federal Aviation Administration, 800 Independence Avenue, SW., Washington, DC 20591; telephone (502) 753-4202; facsimile (502) 753-4232, e-mail: william.d.scott@faa.gov.

SUPPLEMENTARY INFORMATION:

The Final Rule

On July 14, 2005, the FAA issued a final rule amending § 43.17 of Title 14 of the Code of Federal Regulations (CFR), Maintenance, preventive maintenance, and alterations performed on U.S. aeronautical products by certain Canadian persons. (70 FR 40872). The United States and Canada had entered into an international agreement called a Bilateral Aviation Safety Agreement (BASA) that was in line with BASAs negotiated with other countries. The FAA and its Canadian counterpart, Transport Canada Civil Aviation (TCCA) of the Department of Transport, were negotiating Maintenance Implementation Procedures (MIP) to accompany the BASA. The amendment to § 43.17 removes specific regulatory references that if not removed would have constrained development of a standardized MIP.

The amendment also makes other minor changes and requires that all maintenance, preventive maintenance, and alterations performed by Canadian Approved Maintenance Organizations (AMOs) and Aviation Maintenance Engineers (AMEs) on U.S. aeronautical products be done in accordance with a BASA between the United States and Canada and the associated MIP.

The MIP has been finalized. It was signed on August 31, 2006, and became effective immediately upon signing. In the preamble to the final rule the FAA stated, “These amendments become effective concurrent with the date the MIP accompanying the BASA between the United States and Canada enters into force.” Since the MIP is now final and entered into force on August 31, 2006, the FAA now sets the effective date for the above-referenced amendment to § 43.17 to be August 31, 2006.

The FAA has also prepared guidance material to assist maintenance providers in complying with the MIP. This guidance is contained in Advisory Circular (AC) AC 43-10B. A copy of the AC may be obtained by accessing the FAA's Regulatory and Guidance Library Web page at http://www.airweb.faa.gov/Regulatory_and_Guidance_Library/rgWebcomponents.nsf/HomeFrame?OpenFrameSet.

International Compatibility

In keeping with U.S. obligations under the Convention on International Civil Aviation, it is FAA policy to comply with International Civil Aviation Organization (ICAO) Standards and Recommended Practices to the maximum extent practicable. The FAA has reviewed the corresponding ICAO Standards and Recommended Practices and has identified no differences with these regulations.

Good Cause for Immediate Adoption

In accordance with 5 U.S.C. 553(b)(3)(B), FAA finds good cause for issuing this rule without prior notice and comment. Seeking public comment is impracticable, unnecessary, and contrary to the public interest. This rule sets the effective date for a rulemaking that has already been through the public comment process. Seeking prior public comments on the effective date is impracticable, as well as contrary to the public interest in the orderly promulgation and implementation of this rule.

In consideration of the foregoing, the FAA announces the effective date of 14 CFR part 43, Amendment 43-40, published July 14, 2005. The amendments require that the maintenance, preventive maintenance, and alterations be performed in accordance with a Bilateral Aviation Safety Agreement (BASA) between the United States and Canada and associated Maintenance Implementation Procedures (MIP). The MIP was signed and entered into force on August 31, 2006; accordingly, the amendments became effective on that date.

Issued in Washington, DC, on November 22, 2006.
John M. Allen,
Acting Director, Flight Standards Service.

[FR Doc. E6-20254 Filed 11-29-06; 8:45 am]

BILLING CODE 4910-13-P